DEPARTMENT OF COMMERCE

International Trade Administration

[Application No. 89-5A018]

Export Trade Certificate of Review

ACTION: Notice of Issuance of an Amended Export Trade Certificate of Review to Outdoor Power Equipment Institute, Inc. (Application no. 89-5A018).

SUMMARY: The U.S. Department of Commerce issued an amended Export Trade Certificate of Review to Outdoor Power Equipment Institute, Inc. (OPEI) on December 20, 2013.

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. The regulations implementing Title III are found at 15 CFR Part 325 (2013). The U.S. Department of Commerce, International Trade Administration, Trade of Trade and Economic Analysis (“OTEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Certified Conduct

OPEI's Export Trade Certificate of Review has been amended to:

1. Remove the following Members from OPEI's Certificate: Dixon Industries, Inc., Garden Way, Inc., Hoffco, Inc., Howard Price Turf Equipment, Ingersoll Equipment Company, Kut-Kwick Corporation, Maxim Manufacturing Corporation, Ransomes, Inc., Simplicity Manufacturing, Inc., Solo Incorporated, Southland Mower Company, Yazoo Manufacturing Company, Inc.

2. Change the names of the following OPEI Members: Deere & Company dba Worldwide Lawn & Grounds Care Division, Moline, IL to Deere & Company (Moline, IL), Honda Power Equipment Manufacturing, Inc. to American Honda Motor Company Power Equipment Division (Alpharetta, GA), and Textron, Inc, dba Bunton, a division of Jacobsen, a division of Textron, Inc., Louisville, KY to Textron, Inc.

OPEI's amendment of its Export Trade Certificate of Review results in the following membership list:

1. American Honda Motor Company Power Equipment Division (Alpharetta, GA)

2. Ariens Company (Brillion, WI)

3. Briggs & Stratton Corporation (Wauwatosa, WI).

4. Deere & Company (Moline, IL)

5. Excel Industries, Inc. (Hesston, KS)

6. Magic Circle Corporation d/b/a Dixie Chopper (Coatesville, IN)

7. Maxim Manufacturing Corporation (Sebastopol, MS)

8. MTD Products, Inc. (Valley City, OH)

9. Scag Power Equipment, Inc. (Mayville, WI)

10. Textron, Inc. (Louisville, KY)

11. Toro Company (The) (Minneapolis, MN)

Dated: December 23, 2013.
Joseph E. Flynn,
Office Director, Office of Trade and Economic Analysis.

[FR Doc. 2013-31142 Filed 12-27-13; 8:45 am]

BILLING CODE 3510-DR-P